GOVERNMENT PUBLISHING OFFICE

Depository Library Council Meeting

AGENCY: U.S. Government Publishing Office.

ACTION: Notice of meeting.

SUMMARY: The Depository Library Council (DLC) will meet at the Spring 2026 DLC Virtual Meeting on Wednesday, March 4 and Thursday, March 5, 2026. The Meeting will take place online, and anyone may register to attend at https://www.fdlp.gov/about/events-and-conferences/2026-depository-library-council-virtual-meeting. Closed captioning will also be provided. The purpose is to discuss matters affecting the Federal Depository Library Program. All sessions are open to the public.

DATES: March 4-5, 2026.

Hugh Nathanial Halpern,
Director, U.S. Government Publishing Office.

[FR Doc. 2026-02937 Filed 2-12-26; 8:45 am]

BILLING CODE 1520-01-P